DEPARTMENT OF HEALTH AND HUMAN SERVICES

Administration for Children and Families

Submission for OMB Review; Comment Request

Title: Low Income Home Energy Assistance Program 2015 RECS LIHEAP Administrative Data Matching.

OMB No.: New Collection.

Description: The Low Income Home Energy Assistance Program (LIHEAP) block grant (42 U.S.C. 8621 et seq.) was established under Title XXVI of the Omnibus Budget Reconciliation Act of 1981, 97. The Office of Community Services (OCS) within the U.S. Department of Health and Human Services (HHS), Administration for Children and Families (ACF) administers LIHEAP at the federal level.

The LIHEAP statute requires HHS to report to Congress annually on program impacts on recipient and eligible households. The primary program goals, as articulated in the statute, are to ensure that benefits are targeted to those households where the greatest program impacts are expected, and to assure that timely resources are available to households experiencing home energy crises.

OCS is seeking authorization to collect data from all State LIHEAP grantees and the District of Columbia that will allow OCS to identify LIHEAP recipients that responded to the Residential Energy Consumption Survey (RECS). The U.S. Energy Information Administration (EIA) conducts this survey to provide periodic national and regional data on residential energy use in the United States. OCS uses RECS data to furnish Congress and the Administration with important national and regional descriptive data on the energy needs of low-income households. Specific data elements OCS is seeking to collect are detailed below.

State LIHEAP grantees will be asked to furnish data for LIHEAP recipient households that reside in areas included in the RECS sample.

For each household, report the following:

• Name

• Address (including ZIP code)

• Household or Client ID

• Telephone Number

• Household Size

• Gross Income

• Heating assistance awarded?

• Amount of heating assistance

• Date of heating assistance

• Cooling assistance awarded?

• Amount of cooling assistance

• Date of cooling assistance

• Crisis Assistance awarded?

• Amount of crisis assistance

• Date of crisis assistance

• Other Assistance awarded?

• Amount of other assistance

• Date of other assistance

• Presence of children 5 or younger

• Presence of adult 60 or older

• Presence of disabled

The following are additional optional data items that grantees can provide if the data are available in your database:

• Tenancy (i.e., own or rent)

• Type(s) of fuel used

• Heat included in rent

This data will help ACF to analyze specific information for the LIHEAP recipient population, including information related to benefits targeting, energy usage, and energy insecurity, and it will support analysis of LIHEAP data for the annual Report to Congress and the annual LIHEAP Home Energy Notebook.

Respondents: ACF published a Federal Register notice on December 23, 2015 soliciting 60 days of public comment on requiring State grantees to provide household-level data for this effort. ACF didn't receive comments on this notice.

Annual Burden Estimates

The table below shows the estimated reporting burden for the RECS LIHEAP administrative data matching effort. These estimates are based on a small number of interviews with grantees.

Instrument | Number of respondents | Number of responses per respondent | Average burden hours per response | Total burden hours
Administrative data request | 49 | 1 | 24 | 1,176

Estimated Total Annual Burden Hours: 1,176.

Additional Information

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-06915 Filed 3-25-16; 8:45 am]

BILLING CODE 4184-01-P